DEPARTMENT OF AGRICULTURE

Submission for OMB Review; Comment Request

February 13, 2020.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by March 20, 2020 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

30-Day Federal Register Notice

Food and Nutrition Service

Title: Summer Food Service Program Integrity Study.

OMB Control Number: 0584-NEW.

Summary of Collection: The Summer Food Service Program (SFSP) ensures that low-income children continue to receive nutritious meals when school is not in session and they do not have access to free or low-cost meals through the National School Lunch and School Breakfast Programs. The Improper Payments Elimination and Recovery Act of 2010 (Pub. L. 111-204) and the Improper Payments Elimination and Recovery Improvement Act of 2012 (Pub. L. 112-248) require Federal agencies to review programs and activities every three years to identify those that may be vulnerable to significant improper payments. Previous assessments have shown that the SFSP is at a low risk for improper payments but recent efforts to address summer food insecurity through improving access to SFSP have increased program expenditures, which may lead to increased risk of improper payments. SFSP also presents unique challenges to ensuring program integrity and measuring improper payments. FNS is conducting the Summer Food Service Program Integrity Study to obtain information about the administration and oversight of the SFSP and to identify potential barriers to ensuring the integrity and effective management of the SFSP.

Need and Use of the Information: This study will collect data from State Child Nutrition Agency directors, State Agency key staff, local SFSP sponsor directors, sponsor key staff, and SFSP site supervisors, and business SFSP sponsor directors, sponsor key staff, and SFSP site supervisors using web-based surveys and telephone interviews. FNS will use the data to describe how State agencies, sponsors, and sites monitor the SFSP and ensure program integrity, to develop resources, training, and technical assistance, and to shape future efforts to estimate improper payment rates in the SFSP.

Description of Respondents: State, Local, or Tribal Government; and Profit/Non-Profit Businesses.

Number of Respondents: 617.

Frequency of Responses: Reporting: On occasion; Once.

Total Burden Hours: 379.

Ruth Brown,
Departmental Information Collection Clearance Officer.

[FR Doc. 2020-03236 Filed 2-18-20; 8:45 am]

BILLING CODE 3410-30-P